DEPARTMENT OF THE INTERIOR

National Park Service

[NPS-WASO-NAGPRA-NPS0023948; PPWOCRADN0-PCU00RP14.R50000]

Notice of Inventory Completion: Alabama Department of Transportation, Montgomery, AL

AGENCY: National Park Service, Interior.

ACTION: Notice.

SUMMARY: The Alabama Department of Transportation has completed an inventory of human remains in consultation with the appropriate Indian tribes or Native Hawaiian organizations, and has determined that there is no cultural affiliation between the human remains and any present day Indian tribes or Native Hawaiian organizations. Representatives of any Indian tribe or Native Hawaiian organization not identified in this notice that wish to request transfer of control of these human remains should submit a written request to the Alabama Department of Transportation. If no additional requestors come forward, transfer of control of the human remains to the Indian tribes or Native Hawaiian organizations stated in this notice may proceed.

DATES: Representatives of any Indian tribe or Native Hawaiian organization not identified in this notice that wish to request transfer of control of these human remains should submit a written request with information in support of the request to the Alabama Department of Transportation at the address in this notice by October 23, 2017.

ADDRESSES: William B. Turner, Alabama Department of Transportation, 1409 Coliseum Boulevard, Montgomery, AL 36110, telephone (334) 242-6144, email turnerw@dot.state.al.us.

SUPPLEMENTARY INFORMATION: Notice is here given in accordance with the Native American Graves Protection and Repatriation Act (NAGPRA), 25 U.S.C. 3003, of the completion of an inventory of human remains under the control of the Alabama Department of Transportation, Montgomery, AL. The human remains were removed from the Whitesburg Bridge Site (1Ma10), Madison County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Tennessee Valley Authority and Alabama Department of Transportation staff professionals in consultation with representatives of the Cherokee Nation, Eastern Band of Cherokee Indians, The Chickasaw Nation, The Muscogee (Creek) Nation, and United Keetoowah Band of Cherokee Indians in Oklahoma.

History and Description of the Remains

In April of 2012, human remains representing, at minimum, one individual were removed from the Whitesburg Bridge site (1Ma10) in Madison County, AL. On April 23, 2012, Tennessee Valley Authority (TVA) ARPA Investigations received a call from the Huntsville Police Department regarding illegal digging of a gravesite on the river bank at the Whitesburg Bridge in Huntsville, AL. Huntsville Police collected a portion of the human remains that were exposed in the river bank. The human remains were transferred to Alabama Department of Forensic Sciences (DFS) for identification. On April 25, 2012, TVA archeologists examined the site to assess the damage and determine if the location was on State or Federal land. After discussions between TVA and the Alabama Department of Transportation (ALDoT), it was decided that, because of evidence of active illegal digging at the site, TVA would excavate the rest of the human remains. The remaining human remains were excavated on April 26, 2012, by TVA archeologists and the site was covered with vegetation. A portion of the burial remained within the intact shell midden. Discoloration of some of the bone recovered on the river bank suggests that a portion of the burial had eroded out of the shoreline and was exposed to sun. A TVA Police Investigator collected the remaining human remains from DFS. TVA archeologist/osteologist Michaelyn Harle analyzed the human remains and determined that the skeletal morphology is consistent with prehistoric Native American and not considered forensic in nature. Subsequent survey by Alabama Department of Transportation surveyors established that the human remains were barely inside ALDoT right-of-way. Consequently, on July 10, 2012, ALDoT took possession of the human remains from TVA.

Determinations Made by the Alabama Department of Transportation

Officials of the Alabama Department of Transportation have determined that:

• Pursuant to 25 U.S.C. 3001(9), the human remains described in this notice are Native American based on a recorded archeological site, visual osteomorphological structure of the long bones, and the significant occlusal wear on the dentition.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Cherokee Nation, Eastern Band of Cherokee Indians, The Chickasaw Nation, The Muscogee (Creek) Nation, and United Keetoowah Band of Cherokee Indians in Oklahoma.

• Pursuant to 43 CFR 10.11(c)(1), the disposition of the human remains may be to the Cherokee Nation, Eastern Band of Cherokee Indians, The Chickasaw Nation, The Muscogee (Creek) Nation, and United Keetoowah Band of Cherokee Indians in Oklahoma.

Additional Requestors and Disposition

Representatives of any Indian tribe or Native Hawaiian organization not identified in this notice that wish to request transfer of control of these human remains should submit a written request with information in support of the request to William B. Turner, Alabama Department of Transportation, 1409 Coliseum Boulevard, Montgomery, AL 36110, telephone (334) 242-6144, email turnerw@dot.state.al.us, by October 23, 2017. After that date, if no additional requestors have come forward, transfer of control of the human remains to the Cherokee Nation, Eastern Band of Cherokee Indians, The Chickasaw Nation, The Muscogee (Creek) Nation, and United Keetoowah Band of Cherokee Indians in Oklahoma may proceed.

The Alabama Department of Transportation is responsible for notifying the Cherokee Nation, Eastern Band of Cherokee Indians, The Chickasaw Nation, The Muscogee (Creek) Nation, and United Keetoowah Band of Cherokee Indians in Oklahoma that this notice has been published.

Dated: August 3, 2017.
Melanie O'Brien,
Manager, National NAGPRA Program.

[FR Doc. 2017-20302 Filed 9-21-17; 8:45 am]

BILLING CODE 4312-52-P